ENVIRONMENTAL PROTECTION AGENCY

40 CFR Parts 63 and 270

[FRL-7424-2]

RIN 2050-AE79

NESHAP: Standards for Hazardous Air Pollutants for Hazardous Waste Combustors-Corrections

AGENCY: Environmental Protection Agency (EPA).

ACTION: Technical correction.

SUMMARY: On September 30, 1999, EPA promulgated regulations to control emissions of hazardous air pollutants from incinerators, cement kilns and lightweight aggregate kilns that burn hazardous wastes. EPA subsequently promulgated three rules that revised these regulations: a Direct Final Rule published on July 3, 2001, an Interim Standards Rule published on February 13, 2002, and a Final Amendments Rule published on February 14, 2002. In today's action, we are correcting technical errors in those regulations.

EFFECTIVE DATE: This rule is effective on December 19, 2002.

FOR FURTHER INFORMATION CONTACT: For general information, call the RCRA Call Center at 1-800-424-9346 or TDD 1-800-553-7672 (hearing impaired). Callers within the Washington Metropolitan Area must dial 703-412-9810 or TDD 703-412-3323 (hearing impaired). The RCRA Call Center is open Monday-Friday, 9 am to 4 pm, Eastern Standard Time. For more information about this technical correction, contact Michael Galbraith at 703-605-0567, or galbraith.michael@epa.gov.

SUPPLEMENTARY INFORMATION:

Table of Contents

I. What Are the Reasons and Basis for Today's Corrections?

II. What Corrections Are We Making to the Standards?

A. Sources that Comply Early Are Not Required to Submit the NOC within 90 Days of Completing the Comprehensive Performance Test

B. Conforming Change to the Hydrochloric Acid and Chlorine Gas Emission Standard for New Lightweight Aggregate Kilns

C. Conforming Change to Delete the Minimum Power Requirement for Ionizing Wet Scrubbers

D. Conforming Change to Delete the Requirement to Include a Carbon Bed Testing Schedule in the Performance Test Plan

E. Conforming Changes to the Combustion System Leak Requirement

F. Conforming Changes to the Compliance Date Extension Requirements

G. Conforming Changes to the RCRA Permitting Requirements

H. Conforming Change to the Limit on Waste Feedrate for Compliance with the D/F Emission Standard

I. Conforming Change to the Limit on Maximum Ash Feedrate for Incinerators

J. Conforming Change to the Sampling and Analysis Requirements

III. Good Cause Exemption

IV. Rationale for Immediate Effective Date

V. Analytic and Regulatory Requirements

I. What Are the Reasons and Basis for Today's Corrections?

The Agency has received comments from the regulated community and States requesting clarification of certain aspects of the September 30, 1999 Rule (64 FR 52828) as revised by three subsequent rules: the July 3, 2001 Direct Final Rule (66 FR 35087), the February 13, 2002 Interim Standards Rule (67 FR 6792), and the February 14, 2002 Final Amendments Rule (67 FR 6968). Today's technical corrections respond to these comments.

II. What Corrections Are We Making to the Standards?

A. Sources That Comply Early Are Not Required To Submit the NOC Within 90 Days of Completing the Comprehensive Performance Test

In the July 3, 2001 Direct Final Rule, we revised the 1999 rule to encourage early compliance with the regulations. See 66 FR at 35098. We indicated that, in developing the 1999 rule, we did not consider situations where sources would conduct performance testing prior to the compliance date. Sources may choose to test prior to the compliance date for reasons including: (1) To begin complying with the regulations prior to the compliance date; (2) to coordinate RCRA and CAA testing; or (3) to ensure compliance with the requirement to commence the test not later than six months after the compliance date. In the Direct Final Rule, we eliminated two impediments to early compliance: (1) The requirement to stop burning hazardous waste for sources that fail the initial comprehensive performance test if the test is conducted prior to the compliance date; and (2) the requirement for the Documentation of Compliance for sources that submit the Notification of Compliance (NOC) prior to the compliance date.

We intended to eliminate a third impediment for sources that conduct the comprehensive performance test prior to the compliance date (since the purpose of the amendments was to remove impediments to early compliance): The requirement to submit the NOC within 90 days of completion of the performance test. The deadline for submitting the NOC is intended to require sources to document compliance with the emission standards as quickly as possible after the compliance date. The deadline is not necessary for sources that intend to comply early. We inadvertently included that amendment in a proposed Final Amendments Rule, also published on July 3, 2001 (66 FR 35126), rather than the Direct Final Rule. See proposed revisions to § 63.1207(j)(1)(i) and (j)(5), 66 FR at 35153. We also inadvertently did not provide preamble language discussing that regulatory change in the proposed amendments.

We are not amending the rule exactly as we proposed, however. We conclude that we need to revise the proposed regulatory language even though we did not receive adverse comment. Although we intended the waiver of the requirement (to submit the NOC within 90 days of completing the initial comprehensive performance test) to apply only to sources that comply early, the proposed regulatory language inadvertently did not restrict eligibility to early compliers. Accordingly, we have revised the amendment to require that a source that conducts the performance test prior to the compliance date, and that takes advantage of the waiver of the requirement to submit the NOC within 90 days of completing the test, must nonetheless submit the NOC by the compliance date or 90 days after completing the test, whichever is later. This provision ensures that sources using the waiver will begin complying with the emission standards using operating parameter limits documented by a performance test well before the regulatory deadline.¹

¹ Sources are required to: (1) Begin the initial comprehensive performance test not later than six months after the compliance date; (2) to complete testing within 60 days; and (3) to submit the NOC within 90 days of completing the testing. Upon postmark of the NOC, sources must begin complying with the operating parameter limits demonstrated during the performance test.

We have apprised key stakeholders of our intent to correct the standard to include this amendment, and did not receive adverse comment. Accordingly, we are amending § 63.1207(j) by revising (j)(1)(i) and adding (j)(5), consistent with this preamble discussion.

B. Conforming Change to the Hydrochloric Acid and Chlorine Gas Emission Standard for New Lightweight Aggregate Kilns

In the Interim Standards Rule, we explained that we were revising the hydrochloric acid/chlorine gas standard for new lightweight aggregate kilns to be 600 ppmv. See 67 FR at 6797. We failed, however, to make the corresponding change to the regulation. Therefore, in today's action, we are revising the regulation at § 63.1205(b)(6) to include the correct standard of 600 ppmv for hydrochloric acid/chlorine gas.

C. Conforming Change To Delete the Minimum Power Requirement for Ionizing Wet Scrubbers

In the Interim Standards Rule, we deleted the limit on minimum total power to an ionizing wet scrubber required under § 63.1209(m)(1)(i)(D). The limit was intended to ensure compliance with the particulate matter standard. We determined, however, that a limit on total power may not ensure that the removal efficiency will be maintained for a multistage ionizing wet scrubber. We explained that until we evaluate other compliance alternatives and promulgate new requirements, sources and permit officials should use the alternative monitoring provisions of § 63.1209(g) to identify appropriate compliance assurance controls for ionizing wet scrubbers on a site-specific basis. See 67 FR at 6802. Although we deleted the limit for compliance with the particulate matter standard, we inadvertently did not make a conforming change to delete § 63.1209(o)(3)(vi), which also requires a limit on minimum total power to an ionizing wet scrubber to ensure compliance with the total chlorine emission standard.² To conform with our stated intent to delete the limit on minimum total power to an ionizing wet scrubber, we are today deleting § 63.1209(o)(3)(vi).

² Notwithstanding, we do not believe that power input to an ionizing wet scrubber is a primary control factor for chlorine emissions; rather, power input primarily controls metals and particulate matter.

D. Conforming Change To Delete the Requirement To Include a Carbon Bed Testing Schedule in the Performance Test Plan

In the Interim Standards Rule, we deleted the requirement to establish a limit on the useful life of a carbon bed or bed segment and associated requirements to conduct testing subsequent to the comprehensive performance test to verify performance of the carbon bed. In lieu of those requirements, the revised rule requires you to monitor performance of the bed according to manufacturer's specifications to ensure the bed has not reached the end of its useful life. See 67 FR at 6803 and § 63.1209(k)(7)(i).

Although we deleted the requirement to confirm the useful life of a carbon bed by testing subsequent to the comprehensive performance test, we inadvertently did not make a conforming change to § 63.1207(f)(1)(xxi)(A). That provision requires you to include in the comprehensive performance test plan a schedule for conducting testing to verify bed performance. Accordingly, we are making that conforming change today by deleting § 63.1207(f)(1)(xxi)(A).

E. Conforming Changes to the Combustion System Leak Requirement

In the proposed Final Amendments Rule (66 FR at 35132, July 3, 2001), we proposed to make changes to §§ 63.1201(a), 63.1206(c)(5), and 63.1209(p) requiring sources to use a pressure monitor and recording frequency that is adequate to detect combustion system leak events. We also clarified that the intent of the combustion system leak requirement is to prevent fugitive emissions that originate from the combustion of hazardous waste, not fugitive emissions that originate from nonhazardous process streams. We also proposed regulatory language for these changes (see pages 35152 and 35154).

In the Final Amendment Rule, we reiterated that we were finalizing these changes. See 67 FR at 6973. We failed, however, to make the necessary regulatory changes to §§ 63.1201(a), 63.1206(c)(5), and 63.1209(p). We are, therefore, correcting these sections of the regulation by including the regulatory language that was set out in the proposed rule.

F. Conforming Changes to the Compliance Date Extension Requirements

Section 63.1206(a)(1) requires existing sources to comply with the Subpart EEE emission standards no later than September 30, 2003, unless the Administrator or State grants an extension of time under §§ 63.6(i) or 63.1213. The § 63.1213 compliance extension may be granted for a period of up to one year and is designed to allow for the installation of pollution prevention or waste minimization measures that significantly reduce the amount and/or toxicity of hazardous wastes in the feedstream to the combustor. Section 63.6(i)(4) in the Part 63 General Provisions provides for a similar extension should a source need additional time for the installation of controls without which the source would not be able to comply with the emission standards.

Both §§ 63.1213 and 63.6(i)(4) initially required you to submit your extension request in writing no later than 12 months before the compliance date. On April 5, 2002, we amended § 63.6(i)(4)(i)(B) to allow sources to submit their extension requests no later than 120 days (four months) prior to the compliance date. See 67 FR 16582. If the need for an extension arises later than 120 days prior to the compliance date, the amendment further allows sources to request an extension, but only if the need is due to circumstances beyond the reasonable control of the source that came to light after the extension deadline but before the actual compliance date. The amendment further provided that nonfrivolous extension requests would temporarily stay the applicability of the emission standards in question until the Administrator or State grants or denies the request.

The extension provisions of §§ 63.1213 and 63.6(i)(4) are similar in intent; both allow sources to request extensions to the compliance date for the installation of controls. As discussed in the preamble to the March 23, 2001 proposed amendments to the General Provisions (66 FR 16328), we believe that most sources will complete any necessary control installations well before the compliance date; however, we recognize that situations may arise prohibiting this. Sources acting in good faith may not be able to complete the installation, testing and implementation of additional controls due to circumstances or events not of their own making. Work stoppages at a control equipment supplier's factory, shortages of skilled design and construction engineers, and shortages of available technology are some of the examples of circumstances or events that may be beyond the influence of an individual source and that could impact that source's ability to properly install control equipment and measures. Sources that believed they would be able to meet the compliance date without an extension might be unduly penalized should any of these types of events occur within the 12 months prior to the compliance date. We do not believe that it is in the best interest of environmental protection to penalize sources that are actively improving upon their waste minimization and pollution prevention controls because of circumstances and events that are beyond their control occurring prior to the compliance date. Thus, we are making a conforming change to the § 63.1213 compliance date extension requirements to reflect the changes already put in place under § 63.6(i)(4) of the General Provisions.

We are also making a conforming change to the § 63.1213 applicability language to take into consideration the recently promulgated Subpart EEE Interim Standards Rule and our extension of the compliance date. Section 63.1213 requires that a source reasonably document if it cannot install the necessary control measures and comply with the emission standards and operating requirements within three years of the emission standards effective date. This ending phrase corresponded to the September 30, 1999 effective date of the original standards (i.e., the date of publication) and to the September 30, 2002 original compliance date. On December 6, 2001, we extended the compliance date of those 1999 standards by one year, to September 30, 2003. We also promulgated negotiated Interim Standards on February 13, 2002 to temporarily replace the original 1999 standards. The Interim Standards were effective on the date of their promulgation. See 66 FR 63313 and 67 FR 6792. We did not, however, make a conforming change to § 63.1213(a) to address these changes. Therefore, in today's action, we are revising § 63.1213(a) to state that when a source submits a request for an extension, it must document that it cannot install the necessary control measures and comply with the standards and operating requirements by the compliance date.

G. Conforming Changes to the RCRA Permitting Requirements

In the proposed Final Amendments Rule, published on July 3, 2001, we proposed to clarify the applicability and introductory language in 40 CFR 270.19(e), 270.22, 270.62, and 270.66 regarding the reference to the Notification of Compliance (NOC). See 66 FR 35126. These sections currently state that once a source demonstrates compliance with the Subpart EEE standards by conducting a comprehensive performance test and submitting a NOC, the requirements of each section no longer apply (except with respect to certain startup, shutdown, and malfunction requirements). We proposed to specify that in order for the part 270 requirements to no longer apply, the NOC must actually document compliance with the Subpart EEE standards and requirements. While we did receive public comments on other proposed changes to the RCRA permitting requirements in the July 3, 2001 action (which we are not finalizing in today's action), we did not receive any comments on our proposal to specify in part 270 that the NOC must document compliance.

Under §§ 63.1207(j) and 63.1210, sources are required to postmark and submit to the Administrator a Notification of Compliance (NOC). This notification must document compliance or noncompliance with the Subpart EEE standards and requirements. As the regulatory language of part 270 currently states, the RCRA permitting requirements no longer apply only after the source demonstrates compliance. This can only be accomplished by conducting the comprehensive performance test and submitting a NOC that documents compliance. Obviously, the submittal of a NOC that does not document compliance should not constitute an opportunity to be relieved of the RCRA combustion permitting requirements. We should also note that the applicability language in 40 CFR 264.340(b), 265.340(b), and 266.100(b) specify that those sections no longer apply only after the source demonstrates compliance by conducting a comprehensive performance test and submitting a NOC that documents compliance. Therefore, in today's action we are finalizing the correction we proposed in the July 3, 2001 notice to add documenting compliance to the part 270 applicability language.

H. Conforming Change to the Limit on Waste Feedrate for Compliance With the D/F Emission Standard

Section 63.1209(k)(4) of the rule requires you to establish a limit on the maximum waste feedrate to ensure compliance with the dioxin/furan emission standard. Commenters have brought to our attention that preamble discussion explaining the rationale for this requirement refers to a limit on the maximum hazardous waste feedrate. (64 FR at 52937, September 30, 1999) As the preamble states, we intended the limit to apply to the hazardous waste feedrate, not the feedrate of hazardous and nonhazardous waste combined. Accordingly, we are correcting § 63.1209(k)(4) to conform with the preamble discussion.

I. Conforming Change to the Limit on Maximum Ash Feedrate for Incinerators

Section 63.1209(m)(3) requires owners and operators of hazardous waste incinerators to establish a maximum ash feedrate limit as the average of the test run averages. The preamble discussion states that you must establish a maximum 12-hour rolling average feedrate limit based on operations during the comprehensive performance test. (64 FR at 52955, September 30, 1999.) However, we failed to specify the averaging period for this limit in the regulation. We are correcting § 63.1209(m)(3) to conform with the preamble language by adding a requirement to establish the maximum ash feedrate limit based on a 12-hour rolling average.

J. Conforming Change to the Sampling and Analysis Requirements

Section 63.1209(c)(2)(v) requires you to obtain a representative sample of each feedstream to be analyzed using sampling methods described in Appendix I, Part 26, or an equivalent method. This is an incorrect cite. The correct cite is Appendix IX, Part 266. Also, please note that Appendix IX simply refers you to sampling and analysis methods published in “Test Methods for Evaluating Solid Waste, Physical/Chemical Methods,” EPA Publication SW-846. Thus, the sampling method for any feedstream must be either that specified in SW-846, or an equivalent method.

III. Good Cause Exemption

Section 553 of the Administrative Procedure Act, 5 U.S.C. 553(b)(B), provides that, when an agency for good cause finds that notice and public procedure are impracticable, unnecessary or contrary to the public interest, the agency may issue a rule without providing notice and an opportunity for public comment.³ EPA has determined that there is good cause for making today's rule final without prior proposal and opportunity for comment because it merely corrects errors in the September 30, 1999 Rule (64 FR 52828), as revised by three subsequent rules: the July 3, 2001 Direct Final Rule (66 FR 35087), the February 13, 2002 Interim Standards Rule (67 FR 6792), and the February 14, 2002 Final Amendments Rule (67 FR 6968). These final rules were subject to notice and comment, and the clarified regulatory language reflects the Agency's views already set out during the rulemaking and in past Agency statements (notably the applicable preambles). EPA also provided opportunity for further comment on most of these provisions by means of telephone calls and other communications with key stakeholders before issuing these amendments. Thus, EPA finds that further notice and opportunity for public participation in this action are unnecessary, and hence that good cause exists to issue the rule without further notice and further opportunities for comment.

³ The good cause exemption in 5 U.S.C. section 553 (b) applies here, even though this is a rulemaking otherwise subject to the procedural standards set out in section 307 (d) of the Clean Air Act. See CAA section 307 (d) (1) (final sentence).

IV. Rationale for Immediate Effective Date

Today's action does not create any new regulatory requirements; rather, it corrects errors in the September 30, 1999 Rule (64 FR 52828), as revised by three subsequent rules: The July 3, 2001 Direct Final Rule (66 FR 35087), the February 13, 2002 Interim Standards Rule (67 FR 6792), and the February 14, 2002 Final Amendments Rule (67 FR 6968). For this reason, we find that good cause exists under 5 U.S.C. 553(d)(3) to waive the requirement that regulations be published at least 30 days before they become effective.

V. Analytic and Regulatory Requirements

Under Executive Order 12866 (58 FR 51735, October 4, 1993), this action is not a “significant regulatory action” and is therefore not subject to review by the Office of Management and Budget. Because the Agency has made a “good cause” finding (see section III above) that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This interpretive clarification and technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, we have taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.). Our compliance with these statutes and Executive Orders for the underlying rules are discussed in the July 3, 2001, the February 13, 2002, and February 14, 2002 Federal Register notices.

The Congressional Review Act, (5 U.S.C. 801 et seq.), as added by the Small Business Regulatory Enforcement Fairness Act of 1996, generally provides that before a rule may take effect, the agency promulgating the rule must submit a rule report, which includes a copy of the rule, to each House of the Congress and to the Comptroller General of the United States.

Section 808 allows the issuing agency to make a good cause finding that notice and public procedure is impracticable, unnecessary or contrary to the public interest. This determination must be supported by a brief statement. 5 U.S.C. 808(2). As stated previously, EPA has made such a good cause finding, including the reasons therefore, and established an effective date of December 19, 2002. EPA will submit a report containing this rule and other required information to the U.S. Senate, the U.S. House of Representatives, and the Comptroller General of the United States prior to publication of the rule in the Federal Register. This action is not a “major rule” as defined by 5 U.S.C. 804(2).

List of Subjects

40 CFR Part 63

Environmental protection, Air pollution control, Hazardous substances, Reporting and recordkeeping requirements.

40 CFR Part 270

Environmental protection, Administrative practice and procedure, Confidential business information, Hazardous materials transportation, Hazardous waste, Reporting and recordkeeping requirements, Water pollution control, Water supply.

Dated: December 12, 2002.
Marianne L. Horinko,
Assistant Administrator, Office of Solid Waste and Emergency Response.

For the reasons set out in the preamble, title 40 chapter I of the Code of Federal Regulations is amended as follows:

PART 63—NATIONAL EMISSION STANDARDS FOR HAZARDOUS AIR POLLUTANTS FOR SOURCE CATEGORIES

1. The authority citation for part 63 continues to read as follows:

Authority: 42 U.S.C. 7401 et seq.

2. Section 63.1201 is amended by revising the definition of “Instantaneous monitoring” in paragraph (a) to read as follows:

§ 63.1201 Definitions and acronyms used in this subpart.

(a) * * *

Instantaneous monitoring for combustion system leak control means detecting and recording pressure, without use of an averaging period, at a frequency adequate to detect combustion system leak events from hazardous waste combustion.

* * * * *

3. Section 63.1205 is amended by revising paragraph (b)(6) to read as follows:

§ 63.1205 What are the standards for hazardous waste burning lightweight aggregate kilns?

* * * * *

(b) * * *

(6) Hydrochloric acid and chlorine gas in excess of 600 parts per million by volume, combined emissions, expressed as hydrochloric acid equivalents, dry basis and corrected to 7 percent oxygen; and

* * * * *

4. Section 63.1206 is amended by revising paragraph (c)(5)(ii) to read as follows:.

§ 63.1206 When and how must you comply with the standards and operating requirements?

* * * * *

(c) * * *

(5) * * *

(ii) You must specify in the performance test workplan and Notification of Compliance the method that will be used to control combustion system leaks. If you control combustion system leaks by maintaining the combustion zone pressure lower than ambient pressure using an instantaneous monitor, you must also specify in the performance test workplan and Notification of Compliance the monitoring and recording frequency of the pressure monitor, and specify how the monitoring approach will be integrated into the automatic waste feed cutoff system.

* * * * *

5. Section 63.1207 is amended by:

a. Revising paragraph (f)(1)(xxi).

b. Revising paragraph (j)(1)(i).

c. Adding paragraph (j)(5)

The revisions and addition read as follows:

§ 63.1207 What are the performance testing requirements?

* * * * *

(f) * * *

(1) * * *

(xxi) If your source is equipped with a carbon bed system, and you elect not to specify and use the brand and type of carbon used during the comprehensive performance test, you must include in the comprehensive performance test plan key parameters that affect carbon adsorption, and the operating limits you establish for those parameters based on the carbon used during the performance test, as required by § 63.1209(k)(7)(ii).

* * * * *

(j) * * *

(1) * * *

(i) Except as provided by paragraphs (j)(4) and (j)(5) of this section, within 90 days of completion of a comprehensive performance test, you must postmark a Notification of Compliance documenting compliance with the emission standards and continuous monitoring system requirements, and identifying operating parameter limits under § 63.1209.

* * * * *

(5) Early compliance. If you conduct the initial comprehensive performance test prior to the compliance date, you must postmark the Notification of Compliance within 90 days of completion of the performance test or by the compliance date, whichever is later.

* * * * *

6. Section 63.1209 is amended by:

a. Revising paragraph (c)(2)(v).

b. Revising paragraphs (k)(4) introductory text, and (k)(4)(i).

c. Revising paragraph (m)(3).

d. Removing paragraph (o)(3)(vi).

e. Revising paragraph (p).

The revisions read as follows:

§ 63.1209 What are the monitoring requirements?

* * * * *

(c) * * *

(2) * * *

(v) The sampling method which you will use to obtain a representative sample of each feedstream to be analyzed using sampling methods described in appendix IX, part 266 of this chapter, or an equivalent method; and

* * * * *

(k) * * *

(4) Maximum hazardous waste feedrate. (i) You must establish limits on the maximum pumpable and total (pumpable and nonpumpable) hazardous waste feedrate for each location where waste is fed.

* * * * *

(m) * * *

(3) Maximum ash feedrate. Owners and operators of hazardous waste incinerators must establish a maximum ash feedrate limit as a 12-hour rolling average based on the average of the test run averages.

* * * * *

(p) Maximum combustion chamber pressure. If you comply with the requirements for combustion system leaks under § 63.1206(c)(5) by maintaining the maximum combustion chamber zone pressure lower than ambient pressure to prevent combustion systems leaks from hazardous waste combustion, you must perform instantaneous monitoring of pressure and the automatic waste feed cutoff system must be engaged when negative pressure is not adequately maintained.

* * * * *

7. Section 63.1213 is amended by revising paragraphs (a) and (b)(1) introductory text to read as follows:

§ 63.1213 How can the compliance date be extended to install pollution prevention or waste minimization controls?

(a) Applicability. You may request from the Administrator or State with an approved Title V program an extension of the compliance date of up to one year. An extension may be granted if you can reasonably document that the installation of pollution prevention or waste minimization measures will significantly reduce the amount and/or toxicity of hazardous wastes entering the feedstream(s) of the hazardous waste combustor(s), and that you could not install the necessary control measures and comply with the emission standards and operating requirements of this subpart by the compliance date.

(b) * * * (1) You must make your requests for an (up to) one-year extension in writing in accordance with § 63.6(i)(4)(B) and (C). The request must contain the following information:

* * * * *

PART 270—EPA ADMINISTERED PERMIT PROGRAMS: THE HAZARDOUS WASTE PERMIT PROGRAM

8. The authority citation for part 270 continues to read as follows:

Authority : 42 U.S.C. 6905, 6912, 6924, 6925, 6927, 6939, and 6974.

9. Section 270.19 is amended by revising paragraph (e) to read as follows:

§ 270.19 Specific part B information requirements for incinerators.

* * * * *

(e) When an owner or operator demonstrates compliance with the air emission standards and limitations in part 63, subpart EEE, of this chapter (i.e., by conducting a comprehensive performance test and submitting a Notification of Compliance under §§ 63.1207(j) and 63.1210(b) of this chapter documenting compliance with all applicable requirements of part 63, subpart EEE, of this chapter), the requirements of this section do not apply, except those provisions the Director determines are necessary to ensure compliance with §§ 264.345(a) and 264.345(c) of this chapter if you elect to comply with § 270.235(a)(1)(i) to minimize emissions of toxic compounds from startup, shutdown, and malfunction events. Nevertheless, the Director may apply the provisions of this section, on a case-by-case basis, for purposes of information collection in accordance with §§ 270.10(k) and 270.32(b)(2).

10. Section 270.22 is amended by revising the introductory text to read as follows:

§ 270.22 Specific part B information requirements for boilers and industrial furnaces burning hazardous waste.

When an owner or operator of a cement or lightweight aggregate kiln demonstrates compliance with the air emission standards and limitations in part 63, subpart EEE, of this chapter (i.e., by conducting a comprehensive performance test and submitting a Notification of Compliance under §§ 63.1207(j) and 63.1210(b) of this chapter documenting compliance with all applicable requirements of part 63, subpart EEE, of this chapter), the requirements of this section do not apply, except those provisions the Director determines are necessary to ensure compliance with §§ 266.102(e)(1) and 266.102(e)(2)(iii) of this chapter if you elect to comply with § 270.235(a)(1)(i) to minimize emissions of toxic compounds from startup, shutdown, and malfunction events. Nevertheless, the Director may apply the provisions of this section, on a case-by-case basis, for purposes of information collection in accordance with §§ 270.10(k) and 270.32(b)(2).

* * * * *

11. Section 270.62 is amended by revising the introductory text to read as follows:

§ 270.62 Hazardous waste incinerator permits.

When an owner or operator demonstrates compliance with the air emission standards and limitations in part 63, subpart EEE, of this chapter (i.e., by conducting a comprehensive performance test and submitting a Notification of Compliance under §§ 63.1207(j) and 63.1210(b) of this chapter documenting compliance with all applicable requirements of part 63, subpart EEE, of this chapter), the requirements of this section do not apply, except those provisions the Director determines are necessary to ensure compliance with §§ 264.345(a) and 264.345(c) of this chapter if you elect to comply with § 270.235(a)(1)(i) to minimize emissions of toxic compounds from startup, shutdown, and malfunction events. Nevertheless, the Director may apply the provisions of this section, on a case-by-case basis, for purposes of information collection in accordance with §§ 270.10(k) and 270.32(b)(2).

* * * * *

12. Section 270.66 is amended by revising the introductory text to read as follows:

§ 270.66 Permits for boilers and industrial furnaces burning hazardous waste.

When an owner or operator of a cement or lightweight aggregate kiln demonstrates compliance with the air emission standards and limitations in part 63, subpart EEE, of this chapter (i.e., by conducting a comprehensive performance test and submitting a Notification of Compliance under §§ 63.1207(j) and 63.1210(b) of this chapter documenting compliance with all applicable requirements of part 63, subpart EEE, of this chapter), the requirements of this section do not apply, except those provisions the Director determines are necessary to ensure compliance with §§ 266.102(e)(1) and 266.102(e)(2)(iii) of this chapter if you elect to comply with § 270.235(a)(1)(i) to minimize emissions of toxic compounds from startup, shutdown, and malfunction events. Nevertheless, the Director may apply the provisions of this section, on a case-by-case basis, for purposes of information collection in accordance with §§ 270.10(k) and 270.32(b)(2).

* * * * *

[FR Doc. 02-31903 Filed 12-18-02; 8:45 am]

BILLING CODE 6560-50-U